ENVIRONMENTAL PROTECTION AGENCY

[FRL-6992-6]

Notice to Existing Assistance Agreement Recipients Funded With Fiscal Year (FY) 2000 or 2001 Appropriations: New Requirements Regarding Litigation and Lobbying Certification

ACTION: Notice.

AGENCY: Environmental Protection Agency.

SUMMARY: The Office of Management and Budget (OMB) Circulars A-21, A-87, and A-122, which establish the principles for determining allowable costs under Federal assistance agreements, prohibit the use of Federal assistance funds for certain lobbying and litigation costs.

In addition, Section 424 of the Departments of Veterans Affairs and Housing and Urban Development, and Independent Agencies Appropriations Act, 2001, Public Law 106-277, requires that: “A chief executive officer of any entity receiving funds under this Act shall certify that none of the funds have been used to engage in the lobbying of the Federal Government or in litigation against the United States unless authorized under existing law.” Section 426 of the Department of Veterans Affairs and Housing and Urban Development, and Independent Agencies Appropriations Act, 2000, Public Law 106-74, contains a similar provision. This requirement applies to not-for-profit institutions, educational institutions, state, local or tribal governments and other entities receiving assistance awards under EPA's FY 2000 and 2001 Appropriations Acts.

The Paperwork Reduction Act (PRA), 44 U.S.C.A. 3500 et seq., requires that a Federal agency intending to request information from ten or more persons must obtain OMB approval before requesting that information. The appropriations act provisions described above impose additional information collection requirements on EPA assistance agreements. Therefore, EPA is currently seeking OMB approval of an information collection request for a certification document to be distributed and signed by a chief executive officer representing each entity. The certification document will not be disseminated until it has been approved by OMB.

Even though OMB has not yet approved the information collection request for the certification document, the mandates in the appropriations acts remain in effect because they are imposed directly by statute. Thus, recipients with assistance agreements funded with FY 2000 or FY 2001 appropriations must comply with this certification requirement. However, a particular format is not required until that form is approved by OMB. Until that time, each entity may provide this certification in any reasonable manner of choice. The certification must be submitted to EPA after the funds received under those appropriations have been expended.

FOR FURTHER INFORMATION CONTACT: William Hedling, U.S. Environmental Protection Agency, Office of Grants and Debarment, 1200 Pennsylvania Avenue, NW., Washington, DC 20460, phone: (202) 564-5377, FAX: (202) 565-2470, or e-mail at www.hedling.william@epa.gov.

Howard F. Corcoran,
Director Office of Grants & Debarment.

[FR Doc. 01-14483 Filed 6-7-01; 8:45 am]

BILLING CODE 6560-50-P